DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Jennifer Skidmore (Permit No. 21339), Erin Markin (Permit Nos. 21169 and 21301), Amy Hapeman (Permit No. 21367); Courtney Smith (Permit Nos. 16479-04 and 21059), Carrie Hubard (Permit Nos. 19655-01, 19703, and 20993), and Shasta McClenahan (Permit No. 21966) at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or Amendment issuance date
16479-04 | 0648-XA84 | Pacific Whale Foundation (Responsible Party: Jens Curie, M.Sc.), 300 Maalaea Road, Suite 211, Wailuku, HI 96793 | 82 FR 29053; June 27, 2017 | March 28, 2018.
19655-01 | 0648-XF085 | Adam Pack, Ph.D., University of Hawaii at Hilo, 200 West Kawili Street, Hilo, HI 96720 | 82 FR 3727; January 12, 2017 | March 30, 2018.
19703 | 0648-XF154 | Fred Sharpe, Ph.D., Alaska Whale Foundation, 4739 University Way NE, No. 1230, Seattle, WA 98105 | 82 FR 4860; January 17, 2017 | March 30, 2018.
20993 | 0648-XF154 | Christopher Cilfone, Be Blue, 2569 Douglas Highway, Unit 1, Juneau, AK 99801 | 82 FR 29053; June 27, 2017 | March 12, 2018.
21059 | 0648-XF378 | Glacier Bay National Park and Preserve (Responsible Party: Philip N. Hooge, Ph.D.), P.O. Box 140, Gustavus, AK 99826 | 82 FR 32328; July 13, 2017 | March 30, 2018.
21169 | 0648-XF619 | Inwater Research Group, Inc. (Responsible Party: Michael Bresette), 4160 NE Hyline Drive, Jensen Beach, FL 34957 | 82 FR 42984; September 12, 2017 | March 9, 2018.
21301 | 0648-XF528 | Kara Dodge, Woods Hole Oceanographic Institution, MS#33, Redfield 256, Woods Hole, MA 02543 | 82 FR 41001; August 29, 2017 | March 9, 2018.
21367 | 0648-XF862 | Christopher Marshall, Ph.D., Texas A&M University at Galveston, 200 Seawolf Parkway, Galveston, TX 77553 | 82 FR 60588; December 21, 2017 | March 16, 2018.
21339 | 0648-XF871 | Kerri Smith, University of Texas at El Paso, 500 West University Ave., El Paso, TX 79968 | 82 FR 57730; December 7, 2017 | March 15, 2018.
21966 | 0645-XG026 | Mystic Aquarium (Responsible Party: Katie Cubina), 55 Coogan Boulevard, Mystic, CT 06355 | 83 FR 8437; February 27, 2018 | March 30, 2018.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: April 17, 2018.
Julia Marie Harrison,
Chief, Permits and Conservation Division, Office of Protected Resources, National Marine Fisheries Service.

[FR Doc. 2018-08351 Filed 4-20-18; 8:45 am]

BILLING CODE 3510-22-P